DEPARTMENT OF COMMERCE

International Trade Administration

[A-570-831]

Notice of Final Results of Antidumping Duty Changed Circumstances Review: Fresh Garlic From the People's Republic of China

AGENCY: Import Administration, International Trade Administration, U.S. Department of Commerce.

ACTION: Notice of final results of antidumping duty changed circumstances review.

SUMMARY: The Department of Commerce (the Department) has determined that Heze Ever-Best International Trade Co., Ltd. (Heze Ever-Best), is the successor-in-interest to Shandong Heze International Trade and Developing Company (Shandong Heze) and, as such, entries of its merchandise are entitled to Shandong Heze's cash-deposit rate.

EFFECTIVE DATE: October 1, 2004.

FOR FURTHER INFORMATION CONTACT: Sochieta Moth or Brian Ledgerwood at (202) 482-0168 or (202) 482-3836, respectively; China/NME Enforcement Group, Office 8, Import Administration, International Trade Administration, U.S. Department of Commerce, 14th Street and Constitution Avenue, NW., Washington, DC 20230.

SUPPLEMENTARY INFORMATION:

Background

On July 8, 2004, Shandong Heze requested that the Department initiate a changed-circumstances review pursuant to section 751(b)(1) of the Tariff Act of 1930, as amended (the Act), and 19 CFR 351.216 to confirm that Heze Ever-Best is the successor-in-interest to Shandong Heze for purposes of determining antidumping duty liabilities. On July 28, 2004, the Department requested additional information from Heze Ever-Best concerning the circumstances of the name change. On August 4, 2004, Heze Ever-Best responded to our request for information. On August 25, 2004, the Department published a joint initiation and preliminary results of review pursuant to 19 CFR 351.221(c)(3)(ii) and preliminarily determined that Heze Ever-Best is the successor-in-interest to Shandong Heze for purposes of determining antidumping duty liability in this proceeding. See Initiation and Preliminary Results of Antidumping Duty Changed Circumstances Review: Fresh Garlic from the People's Republic of China, 69 FR 52229 (August 25, 2004) (Initiation Notice and Preliminary Results). The Department did not receive any comments regarding its preliminary results of review.

Scope of the Review

The products subject to this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include (a) garlic that has been mechanically harvested and that is primarily, but not exclusively, destined for non-fresh use or (b) garlic that has been specially prepared and cultivated prior to planting and then harvested and otherwise prepared for use as seed.

The subject merchandise is used principally as a food product and for seasoning. The subject garlic is currently classifiable under subheadings 0703.20.0000, 0710.80.7060, 0710.80.9750, 0711.90.6000, and 2005.90.9500 of the Harmonized Tariff Schedule of the United States (HTSUS). Although the HTSUS subheadings are provided for convenience and customs purposes, our written description of the scope of this proceeding is dispositive.

In order to be excluded from antidumping duties, garlic entered under the HTSUS subheadings listed above that is (1) mechanically harvested and primarily, but not exclusively, destined for non-fresh use, or (2) specially prepared and cultivated prior to planting and then harvested and otherwise prepared for use as seed, must be accompanied by declarations to the United States.

Final Results of Changed Circumstances Review

Pursuant to 751(b)(1) of the Act and 19 CFR 351.216(e), we find we find that Heze Ever-Best is the successor-in-interest to Shandong Heze and, as such, entries of its merchandise are entitled to Shandong Heze's cash-deposit rate. For a complete discussion of the basis of this decision, see Initiation Notice and Preliminary Results. Because we received no comments, we have adopted the same position in these final results.

Effective as of the date of these final results, we will instruct U.S. Customs and Border Protection to assign Heze Ever-Best the same 43.3% antidumping duty cash-deposit rate applicable to Shandong Heze. The cash-deposit determination from this changed-circumstances review will apply to all shipments of the subject merchandise entered, or withdrawn from warehouse, for consumption on or after the date of publication of the final results of this changed-circumstances review. See Granular Polytetrafluoroethylene Resin from Italy: Final Results of Antidumping Duty Changed Circumstances Review, 68 FR 25327 (May 12, 2003).

This notice serves as a final reminder to parties to administrative protective orders (APOs) of their responsibility concerning the disposition of proprietary information disclosed under APO in accordance with 19 CFR 351.305(a)(5). Failure to timely notify the Department in writing of the return/destruction of APO material is a sanctionable violation.

We are issuing and publishing this determination and notice in accordance with sections 751(b)(1) and 777(i)(1) of the Act and 19 CFR 351.216(e) and 19 CFR 351.221(c)(3)(i).

Dated: September 24, 2004.
James J. Jochum,
Assistant Secretary for Import Administration.

[FR Doc. E4-2460 Filed 9-30-04; 8:45 am]

BILLING CODE 3510-DS-P